NUCLEAR REGULATORY COMMISSION

[Docket Nos. 50-244, 50-454, 50-455, 50-456, 50-457, 72-067, 72-068, and 72-073; NRC-2024-0027]

Issuance of Multiple Exemptions Regarding Security Notifications, Reports, and Recording Keeping

AGENCY: Nuclear Regulatory Commission.

ACTION: Exemptions; issuance.

SUMMARY: The U.S. Nuclear Regulatory Commission (NRC) is issuing a single notice to announce the issuance of three exemptions in response to requests from one licensee in response to a change to NRC's regulations published in the Federal Register on March 14, 2023.

DATES: During the period from December 1, 2023, to December 31, 2023, the NRC granted three exemptions in response to requests submitted by one licensee from October 13, 2023, to December 7, 2023.

ADDRESSES: Please refer to Docket ID NRC-2024-0027 when contacting the NRC about the availability of information regarding this document. You may obtain publicly available information related to this document using any of the following methods:

• Federal Rulemaking Website: Go to https://www.regulations.gov and search for Docket ID NRC-2024-0027. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Ed Miller, Office of Nuclear Reactor Regulation, U.S. Nuclear Regulatory Commission, Washington, DC 20555-0001; telephone: 301-415-2481, email: Ed.Miller@nc.gov.

SUPPLEMENTARY INFORMATION:

I. Introduction

During the period from December 1, 2023, to December 31, 2023, the NRC granted three exemptions in response to requests submitted by the licensee, Constellation Energy Generation, LLC (Constellation), from October 13, 2023, to December 7, 2023. Constellation's requested exemptions pertaining to its Byron Station, Units 1 and 2; R.E. Ginna Nuclear Power Plant; and Braidwood Station, Units 1 and 2. These exemptions temporarily allow the licensee to deviate from certain requirements of part 73 of title 10 of the Code of Federal Regulations (10 CFR), “Physical Protection of Plants and Materials,” subpart T, “Security Notifications, Reports, and Recordkeeping.” In support of its exemption requests, Constellation agreed to effect site-specific administrative controls that maintain the approach to complying with 10 CFR part 73 in effect prior to the NRC's issuance of a final rule, “Enhanced Weapons, Firearms Background Checks, and Security Event Notifications,” which was published in the Federal Register on March 14, 2023, and became effective on April 13, 2023 (88 FR 15864).

II. Availability of Documents

The tables in this notice provide transparency regarding the number and type of exemptions the NRC has issued and provide the facility name, docket number, document description, document date, and ADAMS accession number for each exemption issued. Additional details on each exemption issued, including the exemption request submitted by the respective licensee and the NRC's decision, are provided in each exemption approval listed in the following tables. For additional directions on accessing information in ADAMS, see the ADDRESSES section of this document.

Byron Station, Units 1 and 2; Docket Nos. 50-454, 50-455, and 72-068
Document description | ADAMS accession No. | Document date
Byron Station, Units 1 and 2, Request for Exemption from Enhanced Weapons, Firearms Background Checks, and Security Event Notifications Implementation | ML23286A036 | October 13, 2023.
Byron Station, Units 1 and 2—Supplemental Information Letter for Part 73 Exemption Request—Responses to Request for Confirmatory Information | ML23317A102 | November 10, 2023.
[External_Sender] Supplement—Byron Security Rule Exemption Request—ISFSI Docket No. Reference (EPID L-2023-LLE-0027) | ML23317A201 | November 22, 2023.
Byron Station, Units 1 and 2—Exemption from Select Requirements of 10 CFR part 73 (EPID L-2023-LLE-0027 [Security Notifications, Reports, and Recordkeeping and Suspicious Activity Reporting]) | ML23320A176 | December 13, 2023.

R.E. Ginna Nuclear Power Plant; Docket Nos. 50-244 and 72-067
Document description | ADAMS accession No. | Document date
R.E. Ginna Nuclear Power Plant—Request for Exemption from Enhanced Weapons, Firearms Background Checks, and Security Event Notifications Implementation | ML23289A104 | October 16, 2023.
R.E. Ginna Nuclear Power Plant—Supplemental Information Letter for part 73 Exemption Request—Responses to Request for Confirmatory Information and Request for Additional Information | ML23321A139 | November 17, 2023.
R.E. Ginna Nuclear Power Plant—Supplemental Response to part 73 Exemption Request—Withdrawal of Request for Exemption from 10 CFR 73, subpart B, Preemption Authority Requirements | ML23341A125 | December 7, 2023.
R.E. Ginna Nuclear Power Plant—Exemption from Select Requirements of 10 CFR part 73 (EPID L-2023-LLE-0029 [Security Notifications, Reports, and Recordkeeping and Suspicious Activity Reporting]) | ML23348A099 | December 15, 2023.

Braidwood Station, Units 1 and 2; Docket Nos. 50-456, 50-457, and 72-073
Document description | ADAMS accession No. | Document date
Braidwood Station, Units 1 and 2—Request for Exemption from Enhanced Weapons, Firearms Background Checks, and Security Event Notifications Implementation | ML23289A119 | October 16, 2023.
Braidwood Station, Units 1 and 2—Supplemental Information Letter for part 73 Exemption Request—Responses to Request for Confirmatory Information | ML23317A101 | November 10, 2023.
Supplement—Braidwood Security Rule Exemption Request—ISFSI Docket No. Reference (EPID L-2023-LLE-0030) | ML23331A892 | November 22, 2023.
Braidwood Station, Units 1 and 2—Exemption from Select Requirements of 10 CFR part 73 (EPID L-2023-LLE-0030 [Security Notifications, Reports, and Recordkeeping and Suspicious Activity Reporting]) | ML23348A216 | December 15, 2023.

Dated: January 25, 2024.
For the Nuclear Regulatory Commission.
Jeffrey A. Whited,
Chief, Plant Licensing Branch 3, Division of Operating Reactor Licensing, Office of Nuclear Reactor Regulation.

[FR Doc. 2024-01834 Filed 1-30-24; 8:45 am]

BILLING CODE 7590-01-P